DEPARTMENT OF ENERGY

Federal Energy Regulatory Commission

Combined Notice of Filings #1

March 3, 2009.

Take notice that the Commission received the following electric corporate filings:

Docket Numbers: EC09-58-000.

Applicants: Evergreen Wind Power V, LLC, First Wind Holdings, LLC, Evergreen Wind Power III, LLC, Stetson Wind II, LLC, Evergreen Gen Lead, LLC.

Description: Application of First Wind Holdings, LLC, et al. for Authorization Under Section 203 of the Federal Power Act and Request for Waivers, Confidential Treatment and Expedited Consideration.

Filed Date: 02/26/2009.

Accession Number: 20090226-5124.

Comment Date: 5 p.m. Eastern Time on Thursday, March 19, 2009.

Take notice that the Commission received the following exempt wholesale generator filings:

Docket Numbers: EG09-33-000.

Applicants: Windy Flats Partners, LLC.

Description: Notice of Self Certification of Exempt Wholesale Generator Status of Windy Flats Partners, LLC.

Filed Date: 03/02/2009.

Accession Number: 20090302-5075.

Comment Date: 5 p.m. Eastern Time on Monday, March 23, 2009.

Take notice that the Commission received the following electric rate filings:

Docket Numbers: ER03-1284-005; ER05-1202-005; ER05-1262-019; ER06-1093-015; ER06-1122-004; ER07-342-003; ER07-407-004; ER07-522-004; ER08-1111-002; ER08-1225-002; ER08-1226-002; ER08-1227-001; ER08-1228-001;

Applicants: High Trail Wind Farm, LLC, Blue Canyon Windpower II LLC, Old Trail Wind Farm, LLC, Telocaset Wind Power Partners, LLC, High Prairie Wind Farm II, LLC, Cloud County Wind Farm, LLC, Pioneer Prairie Wind Farm I, LLC, Arlington Wind Power Project LLC, Flat Rock Windpower LLC, Flat Rock Windpower II LLC, Rail Splitter Wind Farm, LLC, Blue Canyon Windpower LLC, Wheat Field Wind Power Project LLC.

Description: Notice of Non-Material Change in Status of Arlington Wind Power Project LLC, et al.

Filed Date: 03/02/2009.

Accession Number: 20090302-5204.

Comment Date: 5 p.m. Eastern Time on Monday, March 23, 2009.

Docket Numbers: ER06-864-012; ER07-1356-004; ER07-1112-000; ER07-1113-000; ER07-1115-000; ER07-1116-000; ER07-1117-000; ER07-1119-003; ER07-1120-003; ER07-1358-004; ER07-1118-003; ER07-1122-003; ER06-1543-009; ER00-2885-019; ER01-2765-018; ER08-148-003; ER05-1232-011; ER02-1582-016; ER02-2102-018; ER03-1283-013.

Applicants: Bear Energy LP; BE Alabama LLC; BE Allegheny LLC; BE CA LLC; BE Coloquitt LLC; BE Ironwood LLC; BE KJ LLC; BE Red Oak LLC; BE Satilla LLC; BE Louisiana LLC; BE Rayle LLC; BE Walton LLC; Brush Cogeneration Partners; Cedar Brakes I, L.L.C.; Cedar Brakes II, LLC; Central Power & Lime Inc.; J.P. Morgan Ventures Energy Corporation; Mohawk River Funding IV, L.L.C.; Utility Contract Funding, L.L.C.; Vineland Energy LLC.

Description: JP Morgan Companies submits supplemental information to 6/30/08 Updated Market Power Analysis.

Filed Date: 02/20/2009.

Accession Number: 20090224-0032.

Comment Date: 5 p.m. Eastern Time on Friday, March 13, 2009.

Docket Numbers: ER08-1583-001.

Applicants: Tuolumne Wind Project, LLC.

Description: Notice of Non-Material Change in Status re Tuolumne Wind Project, LLC.

Filed Date: 03/02/2009.

Accession Number: 20090302-5187.

Comment Date: 5 p.m. Eastern Time on Monday, March 23, 2009.

Docket Numbers: ER09-214-002.

Applicants: Mt. Carmel Cogen, Inc.

Description: Refund Report of Mt. Carmel Cogen, Inc.

Filed Date: 03/02/2009.

Accession Number: 20090302-5201.

Comment Date: 5 p.m. Eastern Time on Monday, March 23, 2009.

Docket Numbers: ER09-621-001.

Applicants: TAQA Gen X LLC.

Description: TAQA Gen X, LLC submits Substitute Original Sheet 1 to the adopted tariff to amend the reference to the Commission's regulations re seller category.

Filed Date: 02/26/2009.

Accession Number: 20090302-0030.

Comment Date: 5 p.m. Eastern Time on Thursday, March 19, 2009.

Docket Numbers: ER09-665-000.

Applicants: Wellhead Power eXchange, LLC.

Description: Wellhead Power eXchange, LLC submits the supplemental information set forth regarding WPX's proposed market-based rate tariff entitled FERC Electric Tariff 1.

Filed Date: 02/27/2009.

Accession Number: 20090303-0163.

Comment Date: 5 p.m. Eastern Time on Tuesday, March 10, 2009.

Docket Numbers: ER09-771-003.

Applicants: E.ON U.S. LLC.

Description: True-Up Filing of E.ON U.S. LLC.

Filed Date: 03/02/2009.

Accession Number: 20090302-5184.

Comment Date: 5 p.m. Eastern Time on Monday, March 23, 2009.

Docket Numbers: ER09-772-000.

Applicants: Highland Energy, LLC.

Description: Highland Energy, LLC submits notice of cancellation of its FERC Electric Tariff, Original Volume 1.

Filed Date: 02/26/2009.

Accession Number: 20090302-0031.

Comment Date: 5 p.m. Eastern Time on Thursday, March 19, 2009.

Docket Numbers: ER09-773-000.

Applicants: Cantor Fitzgerald Brokerage, L.P.,

Description: CantorCO2c, LP submits notice of cancellation of its market-based rate tariff.

Filed Date: 02/26/2009.

Accession Number: 20090302-0029.

Comment Date: 5 p.m. Eastern Time on Thursday, March 19, 2009.

Docket Numbers: ER09-774-000.

Applicants: Midwest Independent Transmission System Operator, Inc.

Description: Midwest Independent Transmission System Operator, Inc submits an executed Amended and Restates Large Generator Interconnection Agreement with Hoosier Wind Project, LLC et al.

Filed Date: 02/26/2009.

Accession Number: 20090302-0033.

Comment Date: 5 p.m. Eastern Time on Thursday, March 19, 2009.

Docket Numbers: ER09-775-000.

Applicants: TexRep2 LLC.

Description: TexRep2, LLC seeks to cancel its FEC Electric Tariff, Original Volume 1 and requests a shortened comment period.

Filed Date: 02/26/2009.

Accession Number: 20090302-0035.

Comment Date: 5 p.m. Eastern Time on Thursday, March 19, 2009.

Docket Numbers: ER09-776-000.

Applicants: Westar Energy, Inc.

Description: Westar Energy, Inc submits the Balancing Area Services Agreement with City of Springfield, Missouri.

Filed Date: 02/26/2009.

Accession Number: 20090302-0034.

Comment Date: 5 p.m. Eastern Time on Thursday, March 19, 2009.

Docket Numbers: ER09-777-000.

Applicants: Southern California Edison Company.

Description: Southern California Edison Co. submits revised rate sheets to their Interconnection Facilities Agreement with City of Corona, etc.

Filed Date: 02/26/2009.

Accession Number: 20090302-0036.

Comment Date: 5 p.m. Eastern Time on Thursday, March 19, 2009.

Docket Numbers: ER09-778-000.

Applicants: Southwest Power Pool, Inc.

Description: Southwest Power Pool, Inc submits revisions to its Open Access Transmission Tariff to amend several provisions of its executed External Market Advisor Services Agreement with Boston Pacific Co, Inc, effective 1/1/09.

Filed Date: 02/27/2009.

Accession Number: 20090302-0037.

Comment Date: 5 p.m. Eastern Time on Friday, March 20, 2009.

Docket Numbers: ER09-780-000.

Applicants: Westar Energy, Inc.

Description: Westar Energy, Inc submits Third Revised Sheet No 9 of a Control Area Services Agreement between Westar, etc.

Filed Date: 02/27/2009.

Accession Number: 20090303-0203.

Comment Date: 5 p.m. Eastern Time on Friday, March 20, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-5466 Filed 3-12-09; 8:45 am]

BILLING CODE 6717-01-P